DEPARTMENT OF COMMERCE

National Oceanic and Atmospheric Administration

50 CFR Part 660

[Docket No. 060427113-6113-01; I.D.092106D]

Fisheries Off West Coast States and in the Western Pacific; West Coast Salmon Fisheries; Inseason Action #7 - Adjustments of the Recreational Fishery from U.S.-Canada Border to Cape Falcon, Oregon

AGENCY: National Marine Fisheries Service (NMFS), National Oceanic and Atmospheric Administration (NOAA), Commerce.

ACTION: Modification of closed areas and quota; request for comments.

SUMMARY: NMFS announces that the recreational fishery from the U.S.-Canada Border to Cape Falcon, OR was modified, effective Saturday, August 26, 2006, by transferring 2000 coho from the Westport subarea quota with a resulting increase in the La Push subarea quota of 1,140. This modified the Westport subarea quota for marked coho to 25,603 and the La Push subarea quota for marked coho to 3029. Also, the area from Tillamook Head to Cape Falcon, OR within the Columbia River subarea was open effective Saturday, August 26, 2006. This area will be open seven days per week with a modified daily bad limit as follows: all salmon, two fish per day; all retained coho must have a healed adipose fin clip. This area will remain open until September 30 or the coho or Chinook subarea quota is taken, whichever is first. This action was necessary to conform to the 2006 management goals, and the intended effect was to allow the fishery to operate within the seasons and quotas specified in the 2006 annual management measures.

DATES: The quota transfer and opening of the area from Tillamook Head to Cape Falcon, OR were effective 0001 hours local time (l.t.), Saturday, August, 26, 2006. These modifications were effective until the Chinook or coho quotas are taken or 2359 hours l.t. September 17 for La Push and Westport subareas and September 30 for the Columbia River subarea, as announced for the 2006 ocean salmon fishing regulations. Once closed, the fisheries will remain closed until opened through an additional inseason action for the west coast salmon fisheries, which will be published in the Federal Register, or until the effective date of the next scheduled open period announced in the 2006 annual management measures.

Comments will be accepted through October 13, 2006.

ADDRESSES: Comments on these actions must be mailed to D. Robert Lohn, Regional Administrator, Northwest Region, NMFS, NOAA, 7600 Sand Point Way NE., Bldg. 1, Seattle, WA 98115-0070; or faxed to 206-526-6376. Comments can also be submitted via e-mail at the 2006salmonIA7.nwr@noaa.gov address, or through the internet at the Federal eRulemaking Portal: http://www.regulations.gov. Follow the instructions for submitting comments, and include the docket number 060427113-6113-01 and/or I.D. 092106D] in the subject line of the message. Information relevant to this document is available for public review during business hours at the Office of the Regional Administrator, Northwest Region, NMFS.

FOR FURTHER INFORMATION CONTACT: Sarah McAvinchey, 206-526-4323.

SUPPLEMENTARY INFORMATION: In the 2006 annual management measures for ocean salmon fisheries (71 FR 26254, May 4, 2006), NMFS announced the recreational fisheries: the area from Cape Alava to Queets River, WA (La Push Subarea) opened June 30 through the earlier of September 17 or a 1,889-marked coho subarea quota with a subarea guideline of 1,300 Chinook; the area from Queets River to Leadbetter Point, WA (Westport Subarea) opened July 3 through the earlier of September 17 or a 27,603-marked coho subarea quota with a subarea guideline of 18,100 Chinook; the area from Leadbetter Point, WA to Cape Falcon, OR (Columbia River Subarea) opened July 3 through the earlier of September 30 or a 36,600-marked coho subarea quota with a subarea guideline of 8,300 Chinook, with the area from Cape Falcon to Tillamook Head being closed beginning August 1. The La Push Subarea was opened Tuesday through Saturday, and the Westport and Columbia River Subareas were opened Sunday through Thursday. All subareas were restricted to a Chinook minimum size limit of 24 inches (61.0 cm) total length. In addition, the bag limits for these subareas were for all salmon, two fish per day, no more than one of which may be a Chinook, with all retained coho required to have a healed adipose fin clip. Previously, inseason action #4, which was effective Friday, August 11, 2006, modified the daily bag limit in these areas to all salmon, two fish per day and extended the number of fishing days in these areas to seven days per week, with the Neah Bay subarea having no chum retention through September 17, 2006.

On August 25, 2006, the Regional Administrator (RA) consulted with representatives of the Pacific Fishery Management Council, Washington Department of Fish and Wildlife, and Oregon Department of Fish and Wildlife by conference call. It was determined that the catch was less than anticipated in the Columbia river subarea and that provisions designed to slow the catch could be modified. It was concluded that the transfer of marked coho quota from Westport to La Push, would benefit the La Push area fishery while not having an adverse effect on Westport fisheries. As a result, on August 25, 2006, the states recommended, and the RA concurred, that effective Saturday, August 26, 2006, there will be a transfer of 2000 coho from the Westport subarea with a resulting increase in the La Push subarea quota of 1,140. This modified the Westport subarea quota for marked coho to 25,603 and the La Push subarea quota for marked coho to 3029. Also, the area from Tillamook Head to Cape Falcon, OR within the Columbia River subarea was opened effective Saturday, August 26. This area was open seven days per week with a modified daily bag limit as follows: all salmon, two fish per day; all retained coho must have a healed adipose fin clip. This area remained open until September 30 or the coho or Chinook subarea quota is taken, whichever is first.

These actions were necessary to conform to the 2006 management goals, and the intended effect was to allow the fishery to operate within the seasons and quotas specified in the 2006 annual management measures. Modification in recreational quota is authorized by regulations at 50 CFR 660.409(b)(1)(i) and modification of closed areas is authorized at 50 CFR 660.409(b)(1)(v).

The RA determined that the best available information indicated that the catch and effort data, and projections, supported the above inseason actions recommended by the states. The states manage the fisheries in state waters adjacent to the areas of the U.S. exclusive economic zone in accordance with these Federal actions. As provided by the inseason notice procedures of 50 CFR 660.411, actual notice to fishers of the already described regulatory actions were given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (71 FR 26254, May 4, 2006), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily maintaining two restrictions. These actions are authorized by 50 CFR 660.409 and 660.411 and are exempt from review under Executive Order 12866.

Authority: 16 U.S.C. 1801 et seq.

September 22, 2006.
Alan D. Risenhoover,
Director, Office of Sustainable Fisheries, National Marine Fisheries Service.

[FR Doc. E6-15867 Filed 9-27-06; 8:45 am]

BILLING CODE 3510-22-S